INTERNATIONAL TRADE COMMISSION

[Investigations Nos. 701-TA-435 and 731-TA-1036-1038 (Preliminary)]

Certain 4,4′-Diamino-2,2′-Stilbenedisulfonic Acid Chemistry from China, Germany, and India

Determinations

On the basis of the record ¹ developed in the subject investigations, the United States International Trade Commission (Commission) determines, pursuant to sections 703(a) and 733(a) of the Tariff Act of 1930 (19 U.S.C. 1671b(a) and 1673b(a)) (the Act), that there is no reasonable indication that an industry in the United States is materially injured or threatened with material injury, or that the establishment of an industry in the United States is materially retarded, by reason of imports from China, Germany, and India of certain 4,4′-diamino-2,2′-stilbenedisulfonic acid chemistry, provided for in subheadings 2921.59.20 and 3204.20.80 of the Harmonized Tariff Schedule of the United States,² that is alleged to be subsidized by the Government of India and that is alleged to be sold in the United States at less than fair value (LTFV).³

¹ The record is defined in sec. 207.2(f) of the Commission's rules of practice and procedure (19 CFR § 207.2(f)).

² 4,4′-Diamino-2,2′-stilbenedisulfonic acid is provided for in subheading 2921.59.20 and stilbenic fluorescent whitening agents are provided for in subheading 3204.20.80.

³ Vice Chairman Jennifer A. Hillman and Commissioner Marcia E. Miller found two like products in these investigations: 4,4′-diamino-2,2′-stilbenedisulfonic acid and stilbenic fluorescent whitening agents. They found that imports of stilbenic fluorescent whitening agents from China and India are negligible and that there is no reasonable indication that an industry in the United States is materially injured or threatened with material injury, or that the establishment of an industry in the United States is materially retarded, by reason of imports of stilbenic fluorescent whitening agents from Germany or 4,4′-diamino-2,2′-stilbenedisulfonic acid from China, Germany, and India that are allegedly subsidized by the Government of India and sold at LTFV.

Background

On May 14, 2003, a petition was filed with the Commission and Commerce by Ciba Specialty Chemicals Corp., Tarrytown, NY, alleging that an industry in the United States is materially injured and threatened with material injury by reason of subsidized imports from India and LTFV imports from China, Germany, and India of certain 4,4′-diamino-2,2′-stilbenedisulfonic acid chemistry. Accordingly, effective May 14, 2003, the Commission instituted countervailing duty and antidumping investigations Nos. 701-TA-435 and 731-TA-1036-1038 (Preliminary).

Notice of the institution of the Commission's investigations and of a public conference to be held in connection therewith was given by posting copies of the notice in the Office of the Secretary, U.S. International Trade Commission, Washington, DC, and by publishing the notice in the Federal Register of May 23, 2003 (68 FR 28252). The conference was held in Washington, DC, on June 4, 2003, and all persons who requested the opportunity were permitted to appear in person or by counsel.

The Commission transmitted its determinations in these investigations to the Secretary of Commerce on June 30, 2003. The views of the Commission are contained in USITC Publication 3608 (July 2003), entitled Certain 4,4′-Diamino-2,2′-Stilbenedisulfonic Acid Chemistry from China, Germany, and India: Investigations Nos. 701-TA-435 and 731-TA-1036-1038 (Preliminary).

By order of the Commission.
Issued: July 8, 2003.
Marilyn R. Abbott,
Secretary to the Commission.

[FR Doc. 03-17651 Filed 7-11-03; 8:45 am]

BILLING CODE 7020-02-P